DEPARTMENT OF THE INTERIOR

Fish and Wildlife Service

[Docket No. FWS-R4-NWRS-2023-0169; FF09M21200-234-FXMB1231099BPP0; OMB Control Number 1018-New]

Agency Information Collection Activities; Perspectives on Manatee Ecotourism

AGENCY: Fish and Wildlife Service, Interior.

ACTION: Notice of information collection; request for comment.

SUMMARY: In accordance with the Paperwork Reduction Act of 1995, we, the U.S. Fish and Wildlife Service (Service), are proposing a new information collection.

DATES: Interested persons are invited to submit comments on or before January 2, 2024.

ADDRESSES: Send your comments on the information collection request (ICR) by one of the following methods (please reference “OMB Control No. 1018—Manatees” in the subject line of your comment):

• Internet (preferred): https://www.regulations.gov. Follow the instructions for submitting comments on Docket No. FWS-R4-NWRS-2023-0169.

• U.S. mail: Service Information Collection Clearance Officer, U.S. Fish and Wildlife Service, 5275 Leesburg Pike, MS: PRB (JAO/3W); Falls Church, VA 22041-3803.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA; 44 U.S.C. 3501 et seq.) and its implementing regulations in the Code of Federal Regulations (CFR) at 5 CFR 1320, all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Endangered Species Act of 1973 (ESA; 16 U.S.C. 1531 et seq.) and the Marine Mammal Protection Act of 1972 (16 U.S.C. 1361 et seq.) place importance on public education and outreach regarding manatee conservation. Researchers conducting noninvasive surveys can raise awareness about manatees and the importance of responsible ecotourism. Furthermore, the data collected from noninvasive surveys can inform management decisions and policies related to manatee conservation and ecotourism. Authorities and policymakers can also use this data to develop evidence-based strategies that balance the interests of stakeholders while safeguarding the well-being of manatees and their habitats.

Ecotourism is broadly defined as traveling to an undisturbed area with the objective of admiring and studying the wildlife (Wallace and Pierce 1996). Tourism-based activities can provide economic benefits for the community, improve conservation, and be used as a tool for education (Ambe, Tsi, Chi, Siri, and Tita 2010; Hill and Gale 2009; Honey 2008; Masud, Aldakhil, Nassani, and Azam 2017; Snyman 2014; Stronza and Gordillo 2008; Cardenas et al. 2021). For ecotourism to be sustainable, it should encompass the dynamics between recreation and conservation of wildlife (Catlin et al. 2011). A conceptual framework provides managers and researchers a tool to assist them in achieving the best outcomes for both environmental conservation and the provision of wildlife tourism experiences (Catlin et al. 2011). The conceptual framework developed by Duffus and Dearden (1990) is referenced as nonconsumptive wildlife tourism in which “a human recreational engagement with wildlife wherein the focal organism is not purposefully removed or permanently affected by the engagement” (Duffus and Dearden 1990, p. 215). Their framework identifies three major dimensions of wildlife tourism interaction: the wildlife user, the focal species and its habitat, and the historical relationships between them (Duffus and Dearden 1990; Catlin et al. 2011). This study will focus on the wildlife user, which encompasses the visitor, the tourism operators, and the surrounding community that engage in ecotourism with manatees in Crystal River, Florida.

Crystal River is a coastal city located in Citrus County, Florida. The City of Crystal River is adjacent to Kings Bay and the Kings Bay Springs Group, also referred to as the Crystal River/Kings Bay spring complex (Florida Department of Environmental Protection 2018). The Crystal River/Kings Bay spring complex (Springs Complex) is a first magnitude spring system composed of more than 70 springs; these 70 springs account for 99 percent of the freshwater entering Kings Bay (Hammett et al. 1996). The most notable spring in the complex is Three Sisters Springs, which is located within the Crystal River National Wildlife Refuge, referred to hereon as the Refuge (Howard T. Odum Florida Springs Institute 2016). The Refuge was established in 1983 for the protection of the then endangered Florida Manatee, which gather in larger numbers at several of the spring vents during the wintertime to thermoregulate (Hartman 1979). Manatees also rely on the warm, calm, clear waters of Kings Bay to forage, rest, mate, and nurse. Due to the importance of this area for manatee survival, the Service designated this area as critical habitat for manatees under the ESA. During the colder months of the year, from November to March, several areas within the Refuge are roped off, and access to the public is restricted (manatee refuges) or completely prohibited (manatee sanctuaries).

Manatee ecotourism has been a significant part of the Crystal River community for over 50 years. This ecotourism takes many forms, including but not limited to swim-with programs, guided kayak tours, boat tours, and guests who visit the Refuge on foot to view manatees gathered at the springs. Swim-with-manatee tours are by far the most popular ecotourism activity in Crystal River, with tours running from the early morning until sunset each day. To operate a tour within the Refuge, commercial operators must apply for a Special Use Permit (SUP; OMB Control No. 1018-0102). As of 2022, there were 27 permitted operators in Crystal River, and the Refuge estimates that they manage over 400,000 guests recreating within Refuge waters each year (FWS 2022). Despite the popularity of manatee ecotourism in the area growing over the last few decades, only one study has investigated the perceptions surrounding ecotourism in Crystal River. Sorice et al. (2006) interviewed State and wildlife employees, the business community, resource managers, and advocacy groups. The study revealed overriding concerns from all stakeholders regarding water quality, overcrowding, education, harassment, and enforcement (Sorice et al. 2006). However, the study also reported the lack of agreement between stakeholders on each issue. One of the suggestions to resolve conflict was to create a participatory management approach, to organize tour operators into an association that would work with governing officials to establish best practices for ecotourism (Sorice et al. 2006). As such, the Manatee Ecotourism Association was created in Crystal River in 2011 to create standardization for swim-with tours, mainly by practicing passive observation with the goal of following Refuge regulations and reducing manatee harassment.

The purpose of the surveys is to interview manatee tour operators, kayak and paddlecraft outfitters, boat rental companies, their employees, visitors, and the Crystal River community, to obtain their perspectives on manatee ecotourism in Crystal River. We propose to collect the following information to determine the effect of tour operations on the manatee population:

A. Swim-With Tour Operator Survey (Owners/Employees)—

This online survey gathers general information from business owners and tour operators regarding the preparation, size, frequency, nature, and content of “swim-with-manatee” tours, including specific questions about interactions with manatees. No sensitive or non-sensitive personally identifiable information is requested from respondents.

B. Guided Kayak Tours (Owners/Employees)—

This online survey gathers general information from business owners and tour operators regarding the preparation, size, frequency, nature, and content of guided kayak tours. Questions also work to build an understanding of how these tour firms view their business and the regulations surrounding them in relation to manatees. No sensitive or non-sensitive personally identifiable information is requested from respondents.

C. Business Owners of Unguided Boat/Kayak Rental or Lacking Special Use Permit—

This online survey gathers general information from tour firm owners regarding their business practices, preparation, frequency, nature, and content of unguided boat or kayak tours. Questions also work to build an understanding of how these tour firms view their business and the regulations surrounding them in relation to manatees. No personally identifiable information is requested from respondents.

D. For Visitors on Trip (Guided Swim With Manatees Boat Tour)—

This online survey gathers general information from tour consumers regarding their experiences on guided boat tours. Questions include respondents' motivations, preparations, and overall satisfaction with their tour experiences. Apart from zip/postal code, no other sensitive or non-sensitive personally identifiable information is requested from respondents.

E. Visitors on Guided Trip (Kayak)—

This survey gathers general information from tour consumers regarding their experiences on guided kayak tours. Questions include respondents' motivations, preparations, and overall satisfaction with their tour experiences. Apart from zip/postal code, no other sensitive or non-sensitive personally identifiable information is requested from respondents.

F. Visitors on Unguided/Self-Tours—

This survey gathers general information from tour consumers regarding their experiences on unguided/self-guided “swim-with-manatee” tours. Questions include respondents' motivations, preparations, and overall satisfaction with their tour experiences. Apart from zip/postal code, no other sensitive or non-sensitive personally identifiable information is requested from respondents.

G. Land-Based Visitors at Refuge—

This survey gathers general information from Crystal River National Wildlife Refuge visitors regarding their experience and perceptions of ecotourism and local tour operations. Questions also directly address respondents' feelings towards manatee conservation and education programs. Apart from zip/postal code, no other sensitive or non-sensitive personally identifiable information is requested from respondents.

H. Crystal River Community Perceptions on Manatee Ecotourism—

This survey gathers general information from the Crystal River community regarding their perceptions of ecotourism, manatee education, and local tour operations' impact on both manatees in general as well as on Crystal River residents and businesses specifically. Apart from zip/postal code, no other sensitive or non-sensitive personally identifiable information is requested from respondents.

The data collected from tour operators, guests, and Crystal River residents will be utilized for several purposes. First, the information will be analyzed to gain insight into the perspectives of tour operators. This understanding will enable the identification of areas for improvement and the development of sustainable practices in ecotourism. Secondly, the perceptions of guests participating in ecotours will be evaluated to gather valuable feedback. This feedback will serve as a crucial resource for tour operators to incorporate into their operations. By considering guest feedback, operators can establish best practices for activities conducted during ecotours.

Moreover, a comprehensive framework for sustainable ecotourism should not solely focus on the interests and perceptions of guests and tour boat operators. It is equally important to involve the local community, including businesses such as hotels, restaurants, and gift shops, as well as Crystal River residents. This inclusive approach aims to ensure that the benefits of ecotourism are balanced with the concerns and needs of the local community. This comprehensive approach will contribute to the development of sustainable ecotourism practices that benefit all stakeholders involved.

The public may request copies of any form or document contained in this information collection by sending a request to the Service Information Collection Clearance Officer (see ADDRESSES).

Title of Collection: Perspectives on Manatee Ecotourism.

OMB Control Number: 1018-New.

Form Number: None.

Type of Review: New.

Respondents/Affected Public: Individuals/households and private sector.

Respondent's Obligation: Voluntary.

Frequency of Collection: On occasion.

Total Estimated Annual Nonhour Burden Cost: None.

Requirement | Average number of annual respondents | Average number of responses each | Average number of annual responses | Average completion time per response (minutes) | Estimated annual burden hours *
Group A: Swim-With Tour Operator Survey (Private Sector):
Private Sector | 10 | 1 | 10 | 20 | 3
Group B: Guided Kayak Tours (Private Sector):
Private Sector | 5 | 1 | 5 | 20 | 2
Group C: Business Owners of Unguided Boat/Kayak Rental or Lacking SUP Permit (Private Sector):
Private Sector | 1 | 1 | 1 | 8 | 0
Group D: Visitors on Trip (Individuals):
Individuals | 3 | 1 | 3 | 8 | 0
Group E: Visitors on Guided Trip (Private Sector):
Individuals | 3 | 1 | 3 | 10 | 1
Group F: Visitors on Unguided/Self-Tours (Private Sector):
Individuals | 13 | 1 | 13 | 10 | 2
Group G: Land-Based Visitors at Refuge (Private Sector):
Individuals | 30 | 1 | 30 | 5 | 3
Group H: Crystal River Community (Private Sector):
Individuals | 42 | 1 | 42 | 8 | 6
Total | 107 |  | 107 |  | 17
* Rounded.

An agency may not conduct or sponsor and a person is not required to respond to a collection of information unless it displays a currently valid OMB control number.

The authority for this action is the Paperwork Reduction Act of 1995 (44 U.S.C. 3501 et seq.).

References

Ambe, T.A., E.A. Tsi, G.T. Chi, B.N. Siri, and D.F. Tita. 2010. Ecological tourism and Cameroon-opportunities and threats. In Ecotourism: Development, Management and Impact (Krause, A., and E. Weir (eds.)). Nova Science Pub. Inc., UK, pp. 113-133.

Cárdenas, S., M.V. Gabela-Flores, A. Amrein, K. Surrey, L.R. Gerber, and H.M. Guzmán. 2021. Visitor Knowledge, Pro-Conservation Intentions, and Visitor Concern for the Impacts of Whale-Watching in Las Perlas Archipelago, Panama. Frontiers in Marine Science 8:627348.

Catlin, J., R. Jones, and T. Jones. 2011. Revisiting Duffus and Dearden's wildlife tourism framework. Biological Conservation 144(5):1537-1544.

Duffus, D.A., and P. Dearden. 1990. Non-consumptive wildlife-oriented recreation: A conceptual framework. Biological Conservation 53(3):213-231.

Florida Department of Environmental Protection. 2018. Crystal River/Kings Bay Basin Management Action Plan, 86 pages

Hartman, D.S. Ecology and behavior of the manatee (Trichechus manatus) in Florida. 1979. American Society of Mammalogists Special Publication, 5, 1-153.

Hammett, K.M., C.R. Goodwin, and G.L. Sanders. 1996. Tidal-Flow, Circulation, and Flushing Characteristics of Kings Bay, Citrus County, Florida. United States Geological Survey Open-File Report 96-230. Tallahassee, Florida.

Hill, J.L., and T. Gale (Eds.). 2009. Ecotourism and Environmental Sustainability: Principles and Practice. Ashgate Publishing, Ltd. 261 pages.

Honey, M. 2008. Ecotourism and Sustainable Development: Who Owns Paradise? (2nd ed.). Island Press, Washington, DC.

Odum, H.T. 2016. Florida Springs Institute. Kings Bay/Crystal River Springs Restoration Plan, 139 pages.

Masud, M.M., A.M. Aldakhil, A.A. Nassani, and M.N. Azam. 2017. Community-based ecotourism management for sustainable development of marine protected areas in Malaysia. Ocean and Coastal Management 136:104-112.

Snyman, S. 2014. The impact of ecotourism employment on rural household incomes and social welfare in six southern African countries. Tourism and Hospitality Research 14(1-2):37-52.

Sorice, M.G., C.S. Shafer, and R.B. Ditton 2006. Managing endangered species within the use-preservation paradox: The Florida manatee (Trichechus manatus latirostris) as a tourism attraction. Environmental Management 37(1):69-83.

Stronza, A., and J. Gordillo. 2008. Community views of ecotourism. Annals of tourism research 35(2):448-468.

U.S. Fish and Wildlife Service. 2023. Special Use Permit; OMB Control No. 1018-0102.

U.S. Fish and Wildlife Service. Crystal River National Wildlife Refuge. www.fws.gov/refuge/crystal-river#:~:text=Visitor%20Services%20%E2%80%93%20In%20addition%20to,top%20priorities%20for%20the%20refuge. Accessed Aug. 21, 2023.

Wallace, G.N., and S.M. Pierce. 1996. An evaluation of ecotourism in Amazonas, Brazil. Annals of Tourism Research 23(4):843-873.

Madonna Baucum,
Information Collection Clearance Officer, U.S. Fish and Wildlife Service.

[FR Doc. 2023-24192 Filed 11-1-23; 8:45 am]

BILLING CODE 4333-15-P